FEDERAL COMMUNICATIONS COMMISSION

47 CFR Part 73

[DA 04-2914; MB Docket No. 04-362; RM-11066]

Radio Broadcasting Services; Olustee, OK

AGENCY: Federal Communications Commission.

ACTION: Proposed rule.

SUMMARY: This document requests comments on a petition for rulemaking filed by Charles Crawford requesting the allotment of Channel 252A at Olustee, Oklahoma as that community's first local service. The coordinates for Channel 252A at Olustee are 34-33-00 NL and 99-24-00 WL. There is a site restriction 2.0 kilometers (1.3 miles) east of the community. To accommodate the proposal, petitioner requests that the coordinates for vacant Channel 253C3 at Wellington, Texas be modified to 34-53-00 NL and 100-18-00 WL with a site restriction 8.5 kilometers (5.3 miles) west of the community. Petitioner also indicates that the required spacing separations are met due to the fact that Channel 253C is no longer allotted to Elk City, Oklahoma and Channel 251C1 is no longer allotted to Lawton, Oklahoma pursuant to Crowell, Texas et al., 19 FCC Rcd 5347 (MB 2004).

DATES: Comments must be filed on or before November 8, 2004, and reply comments on or before November 23, 2004.

ADDRESSES: Secretary, Federal Communications Commission, 445 Twelfth Street, SW., Washington, DC 20554. In addition to filing comments with the FCC, interested parties should serve the petitioner as follows: Charles Crawford, 4553 Bordeaux Avenue, Dallas, Texas 75205.

FOR FURTHER INFORMATION CONTACT: Helen McLean, Media Bureau, (202) 418-2738.

SUPPLEMENTARY INFORMATION: This is a synopsis of the Commission's Notice of Proposed Rule Making, MB Docket No. 04-362, adopted September 15, 2004, and released September 17, 2004. The full text of this Commission notice is available for inspection and copying during normal business hours in the FCC's Reference Information Center at Portals II, CY-A257, 445 Twelfth Street, SW., Washington, DC. This document may also be purchased from the Commission's duplicating contractors, Best Copy and Printing, Inc., 445 12th Street, SW., Room CY-B402, Washington, DC 20554, telephone 1-800-378-3160 or http://www.BCPIWEB.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Oklahoma, is amended by adding Olustee, Channel 252A.

Federal Communications Commission.
John A. Karousos,
Assistant Chief, Audio Division, Media Bureau.

[FR Doc. 04-21728 Filed 9-27-04; 8:45 am]

BILLING CODE 6712-01-P